DEPARTMENT OF COMMERCE

International Trade Administration

Application for Duty-Free Entry of Scientific Instrument

Pursuant to Section 6(c) of the Educational, Scientific and Cultural Materials Importation Act of 1966 (Pub. L. 89-651; 80 Stat. 897; 15 CFR part 301), we invite comments on the question of whether an instrument of equivalent scientific value, for the purposes for which the instrument shown below is intended to be used, is being manufactured in the United States.

Comments must comply with 15 CFR 301.5(a)(3) and (4) of the regulations and be filed within 20 days with the Statutory Import Programs Staff, U.S. Department of Commerce, Washington, DC 20230. Applications may be examined between 8:30 a.m. and 5 p.m. in Suite 4100W, U.S. Department of Commerce, Franklin Court Building, 1099 14th Street, NW., Washington, DC

Docket Number: 04-016.

Applicant: University of Colorado School of Medicine, Fitzsimons Campus, P.O. Box 6508, Aurora, CO 80045.

Instrument: Electron Microscope, Model Technai G ² 12 BioTWIN.

Manufacturer: FEI Company, The Netherlands. Intended

Use: The instrument is intended to be used in imaging and photographing a wide variety of tissue specimens with an objective lens that optimizes amplitude and contrast for use with stained specimens as well as phase contrast imaging used for immunolabeling frozen-thin sections using administrative control over settings to prevent system damage. Application accepted by Commissioner of Customs: August 18, 2004.

Gerald A. Zerdy,
Program Manager, Statutory Import Programs Staff.

[FR Doc. E4-2167 Filed 9-10-04; 8:45 am]

BILLING CODE 3510-DS-P